DEPARTMENT OF DEFENSE

Department of the Navy

Notice of Availability of Government-Owned Inventions; Available for Licensing

AGENCY: Department of the Navy, DOD.

ACTION: Notice.

SUMMARY: The inventions listed below are assigned to the United States Government, as represented by the Secretary of the Navy and are available for licensing by the Department of the Navy.

U.S. Patent No. 5,525,800 entitled “Selective Multi-Chemical Fiber Optic Sensor”, Navy Case No. 76,085; U.S. Patent 5,735,927 entitled “Method of Producing Core/Cladding Glass Optical Fiber Preforms Using Hot Isostatic Pressing”, Navy Case No. 76,989; U.S. Patent No. 5,739,536 entitled “Fiber Optic Infrared Cone Penetrometer System”, Navy Case No. 77,412; U.S. Patent No. 5,778,125 entitled “Optical Fiber Terminations”, Navy Case No. 77,790; U.S. Patent No. 5,779,757 entitled “Process for Removing Hydrogen and Carbon Impurities from Glasses by Adding a Tellurium Halide”, Navy Case No. 77,216; U.S. Patent No. 5,846,889 entitled “Infrared Transparent Selenide Glasses”, Navy Case No. 77,674; U.S. Patent No. 5,879,426 entitled “Process for Making Optical Fibers from Core and Cladding Glass Rods”, Navy Case No. 77,577; U.S. Patent No. 5,900,036 entitled “Multi-Cylinder Apparatus for Making Optical Fibers, Process and Product”, Navy Case No. 76,981; U.S. Patent No. 5,949,935 entitled “Infrared Fiber Optic Coupler”, Navy Case No. 78,344; U.S. Patent No. 5,953,478 entitled “Metal-Coated IR-Transmitting Chalcogenide Glass Fibers”, Navy Case No. 77,806; U.S. Patent No. 5,973,824 entitled “Amplification by Means of Dysprosium Doped Low Phonon Energy Glass Waveguides”, Navy Case No. 78,395; U.S. Patent No. 6,015,765 entitled “Rare Earth Soluble Telluride Glasses”, Navy Case No. 78,347; U.S. Patent No. 6,021,649 entitled “Apparatus for Making Optical Fibers from Core and Cladding Glass Rods with Two Coaxial Molten Glass Flows”, Navy Case No. 79,632; U.S. Patent No. 6,128,429 entitled “Low Phonon Energy Glass and Fiber Doped with a Rare Earth”, Navy Case No. 78,394; U.S. Patent No. 6,145,342 entitled “Catalyzed Preparation of Amorphous Chalcogenides”, Navy Case No. 78,533; U.S. Patent No. 6,157,856 entitled “Tissue Diagnostics Using Evanescent Spectroscopy”, Navy Case No. 79,047; U.S. Patent No. 6,175,678 entitled “Infrared Fiber Imager”, Navy Case No. 79,823; U.S. Patent No. 6,195,483 entitled “Fiber Bragg Gratings in Chalcogenide or Chalcohalide Based Infrared Optical Fibers”, Navy Case No. 77,161; U.S. Patent No. 6,285,811 entitled “Near-Field Optical Microscope with Infrared Fiber Probe”, Navy Case No. 78,932; U.S. Patent Application Serial No. 09/906,010 entitled “Chalcogenide Glass Fiber Raman Laser and Amplifier”, Navy Case No. 82,848; U.S. Patent Application Serial No. 09/964,548 entitled “Multi Heating Zone Process for Fabrication of Infrared Optical Fibers”, Navy Case No. 82,941; and Navy Case No. 83,486 entitled “All Fiber FTIR”, invention disclosure filed October 2, 2001.

ADDRESSES: Requests for copies of the patents or inventions cited should be directed to the Naval Research Laboratory, Code 1004, 4555 Overlook Avenue, SW., Washington, DC 20375-5320, and must include the Navy Case number.

FOR FURTHER INFORMATION CONTACT: Catherine M. Cotell, Ph.D., Head, Technology Transfer Office, NRL Code 1004, 4555 Overlook Avenue, SW., Washington, DC 20375-5320, telephone (202) 767-7230. Due to temporary U.S. Postal Service delays, please fax (202) 404-7920, e-mail: cotell@nrl.navy.mil or use courier delivery to expedite response.

(Authority: 35 U.S.C. 207, 37 CFR part 404)

Dated: February 6, 2003.
R.E. Vincent, II,
Lieutenant Commander, Judge Advocate General's Corps, U.S. Navy, Federal Register Liaison Officer.

[FR Doc. 03-3471 Filed 2-11-03; 8:45 am]

BILLING CODE 3810-FF-P